INTERNATIONAL TRADE COMMISSION

[Investigation No. 332-477]

Sub-Saharan Africa: Factors Affecting Trade Patterns of Selected Industries

AGENCY: United States International Trade Commission.

ACTION: Institution of investigation and scheduling of hearing.

SUMMARY: Following receipt on July 27, 2006 of a request from the United States Trade Representative (USTR) under section 332(g) of the Tariff Act of 1930 (19 U.S.C. 1332(g)), the U.S. International Trade Commission (“the Commission”) instituted investigation No. 332-477, Sub-Saharan Africa: Factors Affecting Trade Patterns of Selected Industries.

EFFECTIVE DATE: August 18, 2006.

Background: As requested by the USTR, the Commission will conduct an investigation under section 332(g) and prepare three annual reports providing certain information on the competitive factors affecting industries within Sub-Saharan Africa (SSA) that have experienced significant shifts in exports.

In each of the reports, the Commission will provide an overview of the trends in SSA exports in the (1) Agriculture, (2) mining and manufacturing, and (3) services sectors, as well as profiles of SSA industries within those sectors that produce products (as identified by the USTR) that have shown significant export shifts in recent years. The reports will be based on the most recent 5-year period for which data are available.

Each industry profile will provide the following information, to the extent data are available:

• A description of the leading industries within SSA that export the subject products, including their position relative to global competitors;

• Identification of the leading SSA exporting countries and their key markets; and

• Analysis of the competitive factors, by country, that have contributed to the shift in exports. (Such factors may include access to inputs, labor, technology, investment, trade policies-e.g., tariffs and trade preference programs such as the African Growth and Opportunity Act (AGOA), privatization, and liberalization.)

As specified in the USTR's letter, the first annual report will cover industries producing the following products: (1) Agriculture—cut flowers, cocoa butter and paste, nuts (coconuts, Brazil nuts, and cashews), and prepared and preserved fish; (2) mining and manufacturing—acyclic alcohol, unwrought aluminum, textiles and apparel, petroleum gas (liquified natural gas), flat-rolled steel, and wood veneer sheets; and (3) services—financial services and tourism.

The Commission expects to deliver the first annual report to the USTR by April 3, 2007. The second and third reports will be delivered 12 and 24 months, respectively, after delivery of the first annual report.

The Commission anticipates that industry coverage for the subsequent reports will be determined in consultation with the USTR no later than 2 months after delivery of the previous year's report.

FOR FURTHER INFORMATION CONTACT: Project Leader: Brad C. Gehrke (202-3329 or brad.gehrke@usitc.gov). Deputy Project Leader: Joanne E. Guth (202-205-3264 or joanne.guth@usitc.gov).

Industry-specific information may be obtained from the above persons. For more information on legal aspects of the investigation, contact William Gearhart of the Commission's Office of the General Counsel at 202-205-3091 or william.gearhart@usitc.gov. The media should contact Margaret O'Laughlin, Office of External Relations at 202-205-1819 or margaret.olaughlin@usitc.gov. Hearing impaired individuals are advised that information on this matter can be obtained by contacting the TDD terminal at 202-205-1810. General information concerning the Commission may also be obtained by accessing its Internet server (http://www.usitc.gov). The public record for this investigation may be viewed on the Commission's electronic docket (EDIS-ONLINE) at http://www.usitc.gov/secretary/edis.htm.

Public Hearing: A public hearing in connection with the first report in this investigation will be held beginning at 9:30 a.m. on December 6, 2006, at the United States International Trade Commission Building, 500 E Street, SW., Washington, DC. All persons have the right to appear by counsel or in person, to present information, and to be heard. Persons wishing to appear at the public hearing should file a letter to such effect with the Secretary, United States International Trade Commission, 500 E Street, SW., Washington, DC 20436, not later than the close of business (5:15 p.m. EST) on November 13, 2006, in accordance with the requirements in the “Written Submissions” section below.

Written Submissions: In lieu of or in addition to participating in the hearing, interested parties are invited to submit written statements or briefs concerning the first report in this investigation. All written submissions, including requests to appear at the hearing, statements, and briefs, should be addressed to the Secretary, United States International Trade Commission, 500 E Street, SW., Washington, DC 20436. Any prehearing statements or briefs should be filed not later than close of business, November 15, 2006; the deadline for filing posthearing statements or briefs is close of business, December 15, 2006. All written submissions must conform with the provisions of section 201.8 of the Commission's Rules of Practice and Procedure (19 CFR 201.8). Section 201.8 of the rules requires that a signed original (or a copy designated as an original) and fourteen (14) copies of each document be filed. In the event that confidential treatment of the document is requested, at least four (4) additional copies must be filed, in which the confidential information must be deleted (see the following paragraph for further information regarding confidential business information). The Commission's rules do not authorize filing submissions with the Secretary by facsimile or electronic means, except to the extent permitted by section 201.8 of the rules (see Handbook for Electronic Filing Procedures, http://www.usitc.gov/secretary/fed_reg_notices/rules/documents/handbook_on_electronic_filing.pdf; persons with questions regarding electronic filing should contact the Office of the Secretary at 202-205-2000 or edis@usitc.gov).

Any submissions that contain confidential business information must also conform with the requirements of section 201.6 of the Commission's Rules of Practice and Procedure (19 CFR 201.6. Section 201.6 of the rules requires that the cover of the document and the individual pages be clearly marked as to whether they are the “confidential” or “non-confidential” version, and that the confidential business information be clearly identified by means of brackets. All written submissions, except for confidential business information, will be made available in the Office of the Secretary to the Commission for inspection by interested parties.

In her request letter, the USTR stated that she intended to make the Commission's report available to the public in its entirety, and asked that the Commission not include any confidential business or national security information in the report it sends to her office. Consequently, the Commission's report will not contain any such information. Any confidential business information received by the Commission in this investigation and used in preparing the report will not be published in a manner that would reveal the operations of the firm supplying the information.

Persons with mobility impairments who will need special assistance in gaining access to the Commission should contact the Secretary at 202-205-2000.

By order of the Commission.
Issued: August 23, 2006.
Marilyn R. Abbott,
Secretary to the Commission.

[FR Doc. E6-14302 Filed 8-28-06; 8:45 am]

BILLING CODE 7020-02-P